FEDERAL EMERGENCY MANAGEMENT AGENCY

44 CFR Part 5

RIN 3067-AC75

Production or Disclosure of Information

AGENCY: Federal Emergency Management Agency (FEMA).

ACTION: Withdrawal of notice of proposed rulemaking.

SUMMARY: On August 28, 1998, FEMA published a proposed rule concerning the production or disclosure of information, (63 FR 45982). There have been numerous changes to FEMA's program for the production or disclosure of information since FEMA published this notice of proposed rulemaking. Therefore, FEMA is withdrawing its notice of proposed rulemaking for the production or disclosure of information.

DATES: February 28, 2003.

FOR FURTHER INFORMATION CONTACT: Gayle Furtney, Federal Emergency Management Agency, 500 C Street, SW., room 840, Washington, DC 20472, (202) 646-4079, (facsimile) (202) 646-4536, or e-mail Gayle.Furtney@fema.gov.

SUPPLEMENTARY INFORMATION: On August 28, 1998, FEMA published a Notice for proposed rulemaking for the production or disclosure of information, (63 FR 45982). There have been numerous changes to FEMA's program for the production or disclosure of information since FEMA published its August 28, 1998 Notice of proposed rulemaking. Therefore, FEMA is withdrawing its notice of proposed rulemaking for the production or disclosure of information.

Authority: 5 U.S.C. 552 as amended by sections 1801-1804 of the Omnibus Anti-Drug Abuse Act of 1986 which contains the Freedom of Information Reform Act of 1986 (Pub. L. 99-570); 5 U.S.C. 301 (Pub. L. 85-619); Reorganization Plan No. 3 of 1978; E.O. 12127; and E.O. 12148.

Dated: February 20, 2003.
Michael D. Brown,
Deputy Director.

[FR Doc. 03-4722 Filed 2-27-03; 8:45 am]

BILLING CODE 6718-01-P